DEPARTMENT OF AGRICULTURE

Food Safety and Inspection Service

[Docket No. FSIS-2014-0036]

Codex Alimentarius Commission: Meeting of the Codex Committee on Fats and Oils

AGENCY: Office of the Under Secretary for Food Safety, USDA.

ACTION: Notice of public meeting and request for comments.

SUMMARY: The Office of the Under Secretary for Food Safety, U.S. Department of Agriculture (USDA), and the Food and Drug Administration (FDA), Center for Food Safety and Applied Nutrition (CFSAN) are sponsoring a public meeting on January 13, 2015. The objective of the public meeting is to provide information and receive public comments on agenda items and draft United States (U.S.) positions that will be discussed at the 24th session of the Codex Committee on Fats and Oils (CCFO) of the Codex Alimentarius Commission (Codex), taking place in Malaysia, February 9-13, 2015. The Under Secretary for Food Safety and the FDA recognize the importance of providing interested parties the opportunity to obtain background information on the 24th session of the CCFO and to address items on the agenda.

DATES: The public meeting is scheduled for January 13, 2015 from 10:00 a.m.-12:00 p.m.

ADDRESSES: The public meeting will take place at the Harvey Wiley Building, United States Food and Drug Administration, CFSAN, 5100 Paint Branch Parkway, Room number TBA, College Park, MD 20740.

Documents related to the 24th session of the CCFO will be accessible via the World Wide Web at the following address: http://www.codexalimentarius.org/meetings-reports/en/.

Paul South, U.S. Delegate to the 24th session of CCFO, invites U.S. interested parties to submit their comments electronically to the following email address: Paul.South@fda.hhs.gov.

Call in Number

If you wish to participate in the public meeting for the 24th session of CCFO by conference call, please use the call in number and participant code listed below:

Call in Number: 1-888-844-9904

The participant code will be listed on the Web link below: http://www.fsis.usda.gov/wps/portal/fsis/topics/international-affairs/us-codex-alimentarius/public-meetings.

For Further Information About the 24th Session of the CCFO Contact: Paul South, Review Chemist, Office of Food Safety, Center for Food Safety and Applied Nutrition, U.S. Food and Drug Administration, 5100 Paint Branch Parkway, College Park, MD 20740, Phone: (240) 402-1640, Fax: (301) 436-2632, Email: Paul.South@fda.hhs.gov.

For Further Information About the Public Meeting Contact: Marie Maratos, U.S. Codex Office, 1400 Independence Ave SW., Room 4861, Washington, DC 20250, Phone: (202) 205-7760, Fax: (202) 720-3157, Email: Marie.Maratos@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in the food trade.

The CCFO is responsible for elaborating worldwide standards for fats and oils of animal, vegetable and marine origin including margarine and olive oil. The Committee is hosted by Malaysia.

Issues To Be Discussed at the Public Meeting

The following items on the Agenda for the 24th session of CCFO will be discussed during the public meeting:

• Matters Referred by the Codex Alimentarius Commission and Other Codex Committees

• Proposed draft Standard for Fish Oils

• Review of the Lists of acceptable previous cargoes

• Discussion Paper on the Amendment of the Standard for Named Vegetable Oils: Sunflower Seed Oils

• Discussion Paper on Cold Pressed Oils

• Discussion Paper on the Amendment of the Standard for Named Vegetable Oils: High Oleic Soybean Oil

• Discussion Paper on the Amendment of the Standard for Named Vegetable Oils for the Addition of Palm Oil with High Oleic Acid OxG

• Other Business and Future Work

Each issue listed will be fully described in documents distributed, or to be distributed, by the Secretariat prior to the Meeting. Members of the public may access or request copies of these documents (see ADDRESSES).

Public Meeting

At the January 13, 2015 public meeting, draft U.S. positions on the agenda items will be described and discussed. Attendees will have the opportunity to pose questions and offer comments. Written comments may be offered at the meeting or sent to the U.S. Delegate for the 24th session of CCFO, Paul South (see ADDRESSES). Written comments should state that they relate to activities of the 24th session of CCFO.

Additional Public Notification

Public awareness of all segments of rulemaking and policy development is important. Consequently, in an effort to ensure that minorities, women, and persons with disabilities are aware of this notice, FSIS will announce it on-line through the FSIS Web page located at http://www.fsis.usda.gov/wps/portal/fsis/topics/regulations/federal-register.

FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an email subscription service which provides automatic and customized access to selected food safety news and information. This service is available at http://www.fsis.usda.gov/wps/portal/fsis/programs-and-services/email-subscription-service.

Options range from recalls to export information to regulations, directives and notices. Customers can add or delete subscriptions themselves and have the option to password protect their account.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on November 14, 2014.
Mary Frances Lowe,
U.S. Manager for Codex Alimentarius.

[FR Doc. 2014-27413 Filed 11-18-14; 8:45 am]

BILLING CODE 3410-DM-P